DEPARTMENT OF ENERGY

Federal Energy Regulatory Commission

[Docket No. EL19-4-000]

Tradewind Energy, Inc. v. Southern Company Services, Inc.; Notice of Complaint

Take notice that on October 2, 2018, pursuant to section 206 of the Federal Power Act and Rules 206 and 212 of the Federal Energy Regulatory Commission's (Commission) Rules of Practice and Procedure,¹ Tradewind Energy, Inc. (Tradewind or Complainant) filed a formal complaint against Southern Company Services, Inc. (Southern or Respondent) alleging that Southern has violated the terms of its Open Access Transmission Tariff (OATT) by unilaterally withdrawing two pending interconnection requests for Tradewind-affiliated generating projects from their interconnection queue without justification and in violation of their OATT and Commission requirements, all as more fully explained in the complaint.

¹ 18 CFR 385.206 and 385.212.

Tradewind certifies that a copy of the Complaint were served on Southern and copies have been provided to the Florida Public Service Commission and the Georgia Public Service Commission.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible online at http://www.ferc.gov, using the eLibrary link and is available for electronic review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on October 22, 2018.

Dated: October 4, 2018.
Kimberly D. Bose,
Secretary.

[FR Doc. 2018-22083 Filed 10-10-18; 8:45 am]

BILLING CODE 6717-01-P